NATIONAL LABOR RELATIONS BOARD

Notice of Appointments of Individuals to Serve as Members of Performance Review Boards

AGENCY: National Labor Relations Board.

ACTION: The National Labor Relations Board is issuing this notice that the individuals whose names and position titles appear below have been appointed to serve as members of performance review boards in the National Labor Relations Board for the rating year beginning October 1, 2012 and ending September 30, 2013.

Authority: 5 U.S.C. 4314(c)(4).

Name and Title

Kathleen A. Nixon—Deputy Chief Counsel to the Chairman

Gary W. Shinners—Executive Secretary

William B. Cowen—Solicitor

Robert Schiff—Executive Assistant to the Chairman

Anne G. Purcell—Associate General Counsel, Division of Operations Management

Linda Dreeben—Deputy Associate General Counsel, Division of Enforcement Litigation

John H. Ferguson—Associate General Counsel, Division of Enforcement Litigation

Barry J. Kearney—Associate General Counsel, Division of Advice

FOR FURTHER INFORMATION CONTACT: Gary Shinners, Executive Secretary, National Labor Relations Board, 1099 14th Street NW., Washington, DC 20570, (202) 273-3737 (this is not a toll-free number), 1-866-315-6572 (TTY/TDD).

By Direction of the Board.
William B. Cowen,
Solicitor.

[FR Doc. 2013-28153 Filed 11-22-13; 8:45 am]

BILLING CODE 7545-01-P